DEPARTMENT OF AGRICULTURE

Animal and Plant Health Inspection Service

[Docket No. APHIS-2014-0103]

Notice of Request for Extension of Approval of an Information Collection; Importation of Tomatoes From the Souss-Massa-Draa Region of Morocco

AGENCY: Animal and Plant Health Inspection Service, USDA.

ACTION: Extension of approval of an information collection; comment request.

SUMMARY: In accordance with the Paperwork Reduction Act of 1995, this notice announces the Animal and Plant Health Inspection Service's intention to request an extension of approval of an information collection associated with the regulations for the importation of tomatoes from the Souss-Massa-Draa region of Morocco.

DATES: We will consider all comments that we receive on or before March 2, 2015.

ADDRESSES: You may submit comments by either of the following methods:

• Federal eRulemaking Portal: Go to http://www.regulations.gov/#!docketDetail;D=APHIS-2014-0103.

• Postal Mail/Commercial Delivery: Send your comment to Docket No. APHIS-2014-0103, Regulatory Analysis and Development, PPD, APHIS, Station 3A-03.8, 4700 River Road Unit 118, Riverdale, MD 20737-1238.

Supporting documents and any comments we receive on this docket may be viewed at http://www.regulations.gov/#!docketDetail;D=APHIS-2014-0103 or in our reading room, which is located in Room 1141 of the USDA South Building, 14th Street and Independence Avenue SW., Washington, DC. Normal reading room hours are 8 a.m. to 4:30 p.m., Monday through Friday, except holidays. To be sure someone is there to help you, please call (202) 799-7039 before coming.

FOR FURTHER INFORMATION CONTACT: For information on the regulations for the importation of tomatoes from the Souss-Massa-Draa region of Morocco, contact Mr. Dennis Martin, Trade Director, PIM, PPQ, APHIS, 4700 River Road Unit 140, Riverdale, MD 20737; (301) 851-2033. For copies of more detailed information on the information collection, contact Ms. Kimberly Hardy, APHIS' Information Collection Coordinator, at (301) 851-2727.

SUPPLEMENTARY INFORMATION: Title: Importation of Tomatoes From the Souss-Massa-Draa Region of Morocco.

OMB Control Number: 0579-0345.

Type of Request: Extension of approval of an information collection.

Abstract: Under the Plant Protection Act (PPA, 7 U.S.C. 7701 et seq.), the Secretary of Agriculture is authorized to prohibit or restrict the importation, entry, or interstate movement of plants, plant products, and other articles to prevent the introduction of plant pests into the United States or their dissemination within the United States. As authorized by the PPA, the Animal and Plant Health Inspection Service regulates the importation of certain fruits and vegetables in accordance with the regulations contained in “Subpart-Fruits and Vegetables” (7 CFR 319.56 through 319.56-71).

The regulations in § 319.56-28(g) allow tomatoes from the Souss-Massa-Draa region of Morocco to be imported into the United States subject to certain conditions that will protect the tomatoes from infestation by the Mediterranean fruit fly (Medfly). Among other things, the regulations include requirements for pest-exclusionary structures, fruit fly trapping for production sites, and pest-exclusionary packing procedures. In addition, the tomatoes must be pink at the time of packing. Allowing tomatoes to be imported in accordance with the regulations necessitates the use of certain information collection activities, including a phytosanitary certificate with a declaration, production site registration, and maintenance of records of trap placement, trap maintenance, and any Medfly captures.

We are asking the Office of Management and Budget (OMB) to approve our use of these information collection activities for an additional 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of burden: The public reporting burden for this collection of information is estimated to average 1 hour per response.

Respondents: Importers, exporters, growers of tomatoes, and the national plant protection organization of Morocco.

Estimated annual number of respondents: 11.

Estimated annual number of responses per respondent: 36.

Estimated annual number of responses: 398.

Estimated total annual burden on respondents: 395 hours. (Due to averaging, the total annual burden hours may not equal the product of the annual number of responses multiplied by the reporting burden per response.)

All responses to this notice will be summarized and included in the request for OMB approval. All comments will also become a matter of public record.

Done in Washington, DC, this 22nd day of December 2014 .
Kevin Shea,
Administrator, Animal and Plant Health Inspection Service.

[FR Doc. 2014-30499 Filed 12-29-14; 8:45 am]

BILLING CODE 3410-34-P